DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Matthew A. Lipski, Washington University in St. Louis: Based on the report of an investigation conducted by the Washington University in St. Louis (WUSL) and additional analysis conducted by ORI in its oversight review of related records, the U.S. Public Health Service (PHS) found that Matthew A. Lipski, former research patient assistant for WUSL on a subcontract from Hipco, Inc., engaged in scientific misconduct by falsifying and fabricating data in research supported by National Institutes of Health (NIH) Phase II Small Business Innovation Research (SBIR) grant 2 R44 AG12317-03, “Effect of padded underwear on hip fracture incidence.”

Specifically, PHS found that Mr. Lipski falsified and fabricated data in a study examining whether wearing an undergarment with force distributing and absorbing pads positioned over the trochanteric regions of elderly nursing home residents could significantly reduce the number of hip fractures. From July 2000 through October 2000, Mr. Lipski falsified and fabricated observational patient data in multiple research records. Due to concerns over the reliability of all of Mr. Lipski's data, none of his data were used in the study. No publications required correction or retraction.

Mr. Lipski has entered into a Voluntary Exclusion Agreement in which he has voluntarily agreed for a period of three (3) years, beginning on March 20, 2002:

(1) To exclude himself from serving in any advisory capacity to PHS, including but not limited to service on any PHS advisory committee, board, and/or peer review committee, or as a consultant; and

(2) That any institution that submits an application for PHS support for a research project on which Mr. Lipski's participation is proposed or which uses him in any capacity on PHS supported research, or that submits a report of PHS-funded research in which Mr. Lipski is involved, must concurrently submit a plan for supervision of his duties to the funding agency for approval. The supervisory plan must be designed to ensure the scientific integrity of his research contribution. A copy of the supervisory plan must also be submitted to ORI by the institution.

FOR FURTHER INFORMATION CONTACT: Director, Division of Investigative Oversight, Office of Research Integrity, 5515 Security Lane, Suite 700, Rockville, MD 20852, (301) 443-5330.

Chris B. Pascal,
Director, Office of Research Integrity.

[FR Doc. 02-8230 Filed 4-4-02; 8:45 am]

BILLING CODE 4150-31-P